DEPARTMENT OF THE INTERIOR

National Park Service

[NPS-WASO-NAGPRA-NPS0033138; PPWOCRADN0-PCU00RP14.R50000]

Notice of Inventory Completion: Worcester Natural History Society (DBA EcoTarium), Worcester, MA

AGENCY: National Park Service, Interior.

ACTION: Notice.

SUMMARY: The Worcester Natural History Society (DBA EcoTarium) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the EcoTarium. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the EcoTarium at the address in this notice by January 18, 2022.

FOR FURTHER INFORMATION CONTACT: Martin Christiansen, EcoTarium, 222 Harrington Way, Worcester, MA 01604, telephone (508) 929-2734, email MChristiansen@EcoTarium.org.

SUPPLEMENTARY INFORMATION: Notice is here given in accordance with the Native American Graves Protection and Repatriation Act (NAGPRA), 25 U.S.C. 3003, of the completion of an inventory of human remains under the control of the Worcester Natural History Society, Worcester, MA. The human remains were removed from land belonging to the Daniels School of Forestry in Rutland, Worcester County, MA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by EcoTarium professional staff in consultation with representatives of the Mashpee Wampanoag Tribe [previously listed as Mashpee Wampanoag Indian Tribal Council, Inc.]; Wampanoag Tribe of Gay Head (Aquinnah); and the Nipmuc Nation, Hassanamisco Band, a non-federally recognized Indian group. Hereafter, all the Indian Tribes and the non-federally recognized Indian group listed in this section are referred to as “The Consulted Tribes and Group.”

History and Description of the Remains

In 1952, human remains representing, at minimum, one individual were removed from land belonging to the Daniels School of Forestry in the town of Rutland, Worcester County, MA. The human remains have been in the possession of the Worcester Natural History Society since at least the late 1990s. No known individual was identified. No associated funerary objects are present.

Forensic analysis of the human remains reached the following conclusion: “The remains consist of a nearly complete skull of a probably male, probable adult individual of ancestry most consistent with Native American. No meaningful estimate of stature was possible. No antemortem or perimortem trauma or antemortem pathological changes are visible. The PMI [postmortem interval, time of death] was determined by 14C analysis to be circa AD 290.” In other words, these human remains belong to the Woodland period of Native habitation of the northeast.

The Daniels site is located within the historic and prehistoric range of the Nipmuc Nation. Historic associations, including kinship connections, exist between the Nipmuc and the Wampanoag.

Multiple lines of evidence, guided by consultation, including geographical, oral traditional, linguistic, and historical information, demonstrate the existence of a shared group identity between The Consulted Tribes and Group and the earlier group to which the human remains in this notice are connected.

Determinations Made by the Worcester Natural History Society

Officials of the Worcester Natural History Society have determined that:

• Pursuant to 25 U.S.C. 3001(9), the human remains described in this notice represent the physical remains of one individual of Native American ancestry.

• Pursuant to 25 U.S.C. 3001(2), there is a relationship of shared group identity that can be reasonably traced between the Native American human remains and the Mashpee Wampanoag Tribe [previously listed as Mashpee Wampanoag Indian Tribal Council, Inc.] and the Wampanoag Tribe of Gay Head (Aquinnah) (hereafter referred to as “The Tribes”).

Additional Requestors and Disposition

Lineal descendants or representatives of any Indian Tribe or Native Hawaiian organization not identified in this notice that wish to request transfer of control of these human remains should submit a written request with information in support of the request to Martin Christiansen, EcoTarium, 222 Harrington Way, Worcester, MA 01604, telephone (508) 929-2734, email MChristiansen@EcoTarium.org, by January 18, 2022. After that date, if no additional requestors have come forward, transfer of control of the human remains to The Tribes may proceed. If joined to a request from one or more of The Tribes, the Nipmuc Nation, Hassanamisco Band, a non-federally recognized Indian group may also be included in the transfer of control.

The Worcester Natural History Society is responsible for notifying The Consulted Tribes and Group that this notice has been published.

Dated: December 10, 2021.
Melanie O'Brien,
Manager, National NAGPRA Program.

[FR Doc. 2021-27356 Filed 12-16-21; 8:45 am]

BILLING CODE 4312-52-P